DEPARTMENT OF TRANSPORTATION

Federal Transit Administration

Intent to Prepare an Environmental Impact Statement for Proposed Transit Improvements to the Red Line, Cook County, IL

AGENCY: Federal Transit Administration (FTA), Department of Transportation.

ACTION: Notice of intent to prepare an Environmental Impact Statement.

SUMMARY: The FTA, as the lead federal agency, and the Chicago Transit Authority (CTA) intend to prepare an Environmental Impact Statement (EIS) for the Red Line Extension Project in Cook County, Illinois. CTA operates the rapid transit system in Chicago, Cook County, Illinois. The proposed project, described more completely within, would extend the Red Line, a heavy rail transit line, to connect the 95th Street Station to 130th Street. The purpose of this Notice of Intent is to alert interested parties regarding the intent to prepare the EIS, to provide information on the nature of the proposed project and possible alternatives, to invite public participation in the EIS process.

DATES: Written comments on the scope of the EIS, including the project's purpose and need, the alternatives to be considered, the impacts to be evaluated, and the methodologies to be used in the evaluations should be sent to CTA on or before October 27, 2009. See ADDRESSES below for the address to which written public comments may be sent. Two public scoping meetings to accept comments on the scope of the EIS will be held on the following dates:

• Tuesday, September 22, 2009; 6 p.m. to 8 p.m.; at the Historic Pullman Visitor Center, 11141 S. Cottage Grove Avenue, Chicago, IL 60628.

• Thursday, September 24, 2009; 6 p.m. to 8 p.m.; at the Woodson Regional Chicago Public Library, 9525 S. Halsted Street, Chicago, IL 60628.

The buildings used for the scoping meetings are accessible to persons with disabilities. Any individual who requires special assistance, such as a sign language interpreter, to participate in the scoping meeting should contact Mr. Darud Akbar, Government and Community Relations Officer, at 312-681-2708 or dakbar@transitchicago.com, five days prior to the meeting.

Scoping materials describing the project purpose and need and the alternatives proposed for analysis will be available at the meetings and on the CTA Web site http://www.transitchicago.com/RedEIS. Paper copies of the scoping materials may also be obtained from Mr. Darud Akbar, Government and Community Relations Officer, at 312-681-2708 or dakbar@transitchicago.com. An interagency scoping meeting will be held on Thursday, September 24 at 10:30 a.m. at CTA Headquarters, in Conference Room 2C, 567 W. Lake Street, Chicago, IL 60661. Representatives of Native American tribal governments and of all federal, state, regional and local agencies that may have an interest in any aspect of the project will be invited to be participating or cooperating agencies, as appropriate.

ADDRESSES: Comments will be accepted at the public scoping meetings or they may be sent to Mr. Jeffrey Busby, General Manager, Strategic Planning, Chicago Transit Authority, P. O. Box 7602, Chicago, IL 60680-7602, or via e-mail at RedExtension@transitchicago.com.

FOR FURTHER INFORMATION CONTACT: Mr. David Werner, Community Planner, Federal Transit Administration, Region V, 200 West Adams Street, Suite 320, Chicago, IL 60606, phone 312-353-3879, e-mail david.werner@dot.gov.

SUPPLEMENTARY INFORMATION:

Scoping

The FTA and CTA invite all interested individuals and organizations, public agencies, and Native American Tribes to comment on the scope of the EIS, including the project's purpose and need, the alternatives to be studied, the impacts to be evaluated, and the evaluation methods to be used. Comments should address (1) alternatives that may better achieve the project's need and purposes at less cost or with fewer adverse impacts, and (2) any significant environmental impacts relating to the alternatives.

National Environmental Policy Act (NEPA) “scoping” (40 CFR 1501.7) has specific and fairly limited objectives, one of which is to identify the significant issues associated with alternatives that will be examined in detail in the document, while simultaneously limiting consideration and development of issues that are not truly significant. It is in the NEPA scoping process that potentially significant environmental impacts—those that give rise to the need to prepare an environmental impact statement—should be identified; impacts that are deemed not to be significant need not be developed extensively in the context of the impact statement, thereby keeping the statement focused on impacts of consequence. Transit projects may also generate environmental benefits; these should be highlighted as well—the impact statement process should draw attention to positive impacts, not just negative impacts.

Once the scope of the environmental study, including significant environmental issues to be addressed, is settled, an annotated outline of the document will be prepared and shared with interested agencies and the public. The outline serves at least three worthy purposes, including (1) Documenting the results of the scoping process; (2) contributing to the transparency of the process; and (3) providing a clear roadmap for concise development of the environmental document.

Purpose and Need for the Project

The purpose of the Red Line Extension project is to reduce travel times to jobs for far South Side and South Suburban residents and improve the performance of the existing Red Line 95th Street Station terminal. The project would also provide an opportunity to support economic development initiatives.

The need for the project is based on the following considerations: lack of park-and-ride, passenger drop-off, and poor pedestrian facilities limit access to the existing 95th Street terminal of the Red Line; customers accessing the existing terminal facility by bus experience measureable delays resulting from poor performance of surrounding arterial intersections, insufficient space for bus loading and unloading, and insufficient space for bus layovers; congested bus and passenger conditions at the existing terminal station and bus facility result in safety issues and diminish the attractiveness of transit as an alternative to other travel modes; roadway performance in the project area is adversely impacted by narrow arterial streets and frequent at-grade freight rail crossings; and, the project area population is highly transit-dependent, minority and low-income.

Project Location and Environmental Setting

The proposed heavy rail transit (HRT) project area lies about 11 miles south of the Chicago Central Area (commonly referred to as the “Loop”). The limits of the project area are from 95th Street on the north to 130th Street on the south. The Calumet-Sag Channel/Little Calumet River extends along the southern edge of the project area and Lake Calumet is located to the east.

The project area includes parts of eight community areas in the far South of the City of Chicago. Community areas include Washington Heights, Morgan Park, Roseland, Pullman, West Pullman, South Deering, Hegewisch and Riverdale. The project area encompasses significant residential (primarily single family), industrial (existing and vacant), transportation, and commercial developments.

The locally preferred alternative (LPA) for the proposed Red Line Extension project was approved by the Chicago Transit Board for further study in the EIS on August 12, 2009. The LPA would extend the heavy rail transit line from the 95th Street Station south along the I-57 Expressway to the Union Pacific Railroad (UPRR) right-of-way near Eggleston Avenue. From that point, the line extends south from I-57 along the UPRR corridor to approximately 111th Street where it turns southeast along existing railroad and industrial right-of-way to terminate in the vicinity of 130th Street. The extension would add 5.3 new route miles of rapid transit to the existing Red Line, four additional stations at approximately 103rd, 111th, 115th, and 130th Streets with new park-and-ride and bus terminal facilities at each station.

Alternatives

The Red Line Extension Final Alternatives Analysis Report (2009) prepared by CTA identified three alternatives for further consideration in the EIS. These alternatives include: A No Build Alternative, Transportation System Management (TSM) Alternative, and the UPRR HRT Alternative (the LPA). Additionally, the Halsted Street HRT Alternative from the Red Line Extension Alternatives Analysis Screen 3 Report (2009) will be considered in the EIS.

No Build Alternative: The No Build Alternative is defined as the existing transportation system, plus any committed transportation improvements. Committed transportation improvements include projects that are already in the Chicago Metropolitan Agency for Planning (CMAP) financially constrained Transportation Improvement Program (TIP). The Red Line project area has five bridge reconstructions, and several road improvement projects included in the FY 2007-2012 TIP. These improvements are primarily on highway segments in the vicinity of the project area and generally do not lie adjacent to or intersect with the proposed TSM or HRT alternatives.

Bridge projects in the TIP include: Illinois 1 (Halsted Street) at the Little Calumet River; I-94 (Bishop Ford Expressway) at the Stony Island ramp and at Cottage Grove Road; I-57 at 103rd Street; and I-57 at Genoa Road. Road improvement projects include a variety of landscaping, safety fencing, and resurfacing projects, and coordination of signal timing on Stony Island Avenue from 95th Street north, and on 95th Street from Western Avenue east to Ewing Avenue. There is also a bicycle and pedestrian multi-use trail proposed to extend from the existing Centennial Trail in Lemont to the Burnham Greenway in Burnham.

Bus transit service under the No Build Alternative would be focused on the preservation of existing services and projects. No significant changes to bus service are anticipated in the project area. All elements of the No Build Alternative are included in each of the other alternatives.

Transportation System Management (TSM) Alternative: A TSM Alternative is proposed because it is required as part of the New Starts evaluative process; in this case, it does not meet the purposes of and need for the proposed project. The TSM Alternative is Bus Rapid Transit (BRT) that would operate between the 95th Street Station and 130th Street via East 95th Street, Michigan Avenue, East 127th Street, South Indiana Avenue, and East 130th Street. Proposed BRT service would operate in mixed traffic with traffic signal priority along 95th Street, Michigan Avenue, and 130th Street.

The TSM Alternative is 5.5 miles long and would include four intermediate stops at 103rd, 111th, 115th, and 130th Streets with park-and-ride facilities proposed at all of the new stops. The 95th Street terminal would be expanded to extend the existing bus bays along State and Lafayette Streets approximately 250-feet north to 94th Street to improve circulation and safety. The TSM alternative assumes that buses from the south would continue to serve the 95th Street Station.

UPRR Heavy Rail Transit (HRT) Alternative/Locally Preferred Alternative (LPA): The proposed LPA would operate between the existing Red Line 95th Street Station and 130th Street. The line would be on an elevated structure from the 95th Street as it heads south along the I-57 Expressway for nearly one-half mile until reaching the UPRR corridor in the vicinity of Eggleston Avenue. It would then turn south along the UPRR corridor to approximately 111th Street where it would turn southeast. East of South Prairie Avenue the alignment would cross over the Canadian National/Metra tracks near 119th Street where it would transition to an at-grade profile and then continue southeast along the former Michigan Central/Indiana Harbor Belt (IHB) railroad right-of-way to terminate in the vicinity of 130th Street.

The LPA is 5.3 miles long and would include three new intermediate stations at 103rd, 111th, and 115th Streets and a new terminal station at 130th Street with new park-and-ride and bus terminal facilities at each station. This alternative assumes that buses from the south would be re-routed to serve the new intermediate and terminal stations to speed passenger travel to downtown Chicago.

The new HRT tracks would be placed immediately adjacent to the UPRR right-of-way on either the west side (West Side Option) or the east side (East Side Option). Both options would require adjacent property acquisition to accommodate the CTA right-of-way and station facilities at 103rd, 111th, and 115th Streets. Based on a preliminary analysis of the conceptual alignment plans and Cook County parcel data, the West Side Option would require up to 112 property acquisitions and/or displacements and the East Side Option would require 138. In addition, the West Side Option could impact Fernwood Parkway between 99th Street and 103rd Streets which could trigger a Section 4(f) of the Department of Transportation Act evaluation in the EIS. The East Side Option could impact Wendell Smith Park adjacent to the I-57 Expressway which could also trigger a Section 4(f) evaluation in the EIS. Kensington Playground Park near 118th Street would not be impacted by either option.

There are two options for the 130th Street terminal station. The Red Line extension would continue south along the IHB right-of-way to either a south or west terminal station location along the north side of 130th Street, just west of the I-94 Bishop Ford Freeway.

Halsted Street HRT Alternative: The proposed Halsted Street HRT Alternative would be operated on an elevated structure between the existing Red Line 95th Street Station and the Halsted Street/Vermont Avenue intersection in the vicinity of 127th Street. The alignment would follow the median of I-57 Expressway until reaching Halsted Street. It would then turn south onto Halsted Street and continue in the median to Vermont Avenue.

The Halsted Street HRT Alternative is 5.0 miles long and would include three new intermediate stations at 103rd, 111th, 119th Streets and a new terminal station at Vermont Avenue with new park-and-ride and bus terminal facilities at the intermediate and terminal stations. This alternative assumes that buses from the south would be re-routed to serve the new intermediate and terminal stations to speed passenger travel to downtown Chicago.

Near the proposed station areas, there may be additional impacts to adjacent land owners if land acquisition would be required for station facilities such as bus turnarounds or parking facilities. This would be most applicable at the proposed terminal station at 127th/Vermont since several properties are located close to Halsted Street in this segment and there may be higher off-street facility needs.

Possible Effects

The purpose of this EIS process is to study, in a public setting, the effects of the proposed project and its alternatives on the quality of the human environment. Areas of investigation for transit projects generally include, but are not limited to: Land use, development potential, land acquisition and displacements, historic resources, visual and aesthetic qualities, air quality, noise and vibration, energy use, safety and security, and ecosystems, including threatened and endangered species; investigation may reveal that the proposed project will not affect or affect substantially many of those areas. Measures to avoid, minimize, or mitigate any significant adverse impacts will be identified.

FTA Procedures

The regulations implementing NEPA, as well as provisions of the Safe, Accountable, Flexible, Efficient Transportation Equity Act: A Legacy for Users (SAFETEA-LU), call for public involvement in the EIS process. Section 6002 of SAFETEA-LU requires that FTA and CTA do the following: (1) Extend an invitation to other Federal and non-Federal agencies and Native American tribes that may have an interest in the proposed project to become “participating agencies;” (2) provide an opportunity for involvement by participating agencies and the public to help define the purpose and need for a proposed project, as well as the range of alternatives for consideration in the EIS; and (3) establish a plan for coordinating public and agency participation in, and comment on, the environmental review process. An invitation to become a participating or cooperating agency, with scoping materials appended, will be extended to other Federal and non-Federal agencies and Native American tribes that may have an interest in the proposed project. It is possible that FTA and CTA will not be able to identify all Federal and non-Federal agencies and Native American tribes that may have such an interest. Any Federal or non-Federal agency or Native American tribe interested in the proposed project that does not receive an invitation to become a participating agency should notify at the earliest opportunity the Project Manager identified above under ADDRESSES.

A comprehensive public involvement program and a Coordination Plan for public and interagency involvement will be developed for the project and posted on CTA's Web site http://www.transitchicago.com/RedEIS. The public involvement program includes a full range of activities including maintaining the project Web page on the CTA Web site and outreach to local officials, community and civic groups, and the public. Specific activities or events for involvement will be detailed in the project's public participation plan.

The Paperwork Reduction Act seeks, in part, to minimize the cost to the taxpayer of the creation, collection, maintenance, use, dissemination, and disposition of information. Consistent with this goal and with principles of economy and efficiency in government, it is FTA policy to limit insofar as possible distribution of complete printed sets of environmental documents. Accordingly, unless a specific request for a complete printed set of environmental documents is received (preferably in advance of printing), FTA and its grantees will distribute only the executive summary of the environmental document together with a Compact Disc of the complete environmental document. A complete printed set of the environmental document is available for review at the grantee's offices and elsewhere; an electronic copy of the complete environmental document is also available on the grantee's Web page.

CTA may seek New Starts funding for the proposed project under 49 United States Code 5309 and will, therefore, be subject to New Starts regulations (49 Code of Federal Regulations (CFR) Part 611). The New Starts regulations also require the submission of certain project-justification information to support a request to initiate preliminary engineering. This information is normally developed in conjunction with the NEPA process. Pertinent New Starts evaluation criteria will be included in the EIS.

The EIS will be prepared in accordance with NEPA and its implementing regulations issued by the Council on Environmental Quality (40 CFR Parts 1500-1508) and with the FTA/Federal Highway Administration regulations “Environmental Impact and Related Procedures” (23 CFR Part 771).

Issued on: August 24, 2009.
Marisol R. Simon,
Regional Administrator, FTA Region V.

[FR Doc. E9-20963 Filed 8-28-09; 8:45 am]

BILLING CODE 4910-57-P